DEPARTMENT OF THE INTERIOR

National Park Service

[NPS-WASO-NAGPRA-NPS0035712; PPWOCRADN0-PCU00RP14.R50000]

Notice of Inventory Completion Amendment: Peabody Museum of Archaeology and Ethnology, Harvard University, Cambridge, MA

AGENCY: National Park Service, Interior.

ACTION: Notice; amendment.

SUMMARY: In accordance with the Native American Graves Protection and Repatriation Act (NAGPRA), the Peabody Museum of Archaeology and Ethnology, Harvard University (PMAE) has amended a Notice of Inventory Completion Amendment published in the Federal Register on September 15, 2022. This notice amends the number of associated funerary objects in a collection removed from Marion County, TN.

DATES: Disposition of the human remains and associated funerary objects in this notice may occur on or after May 26, 2023.

ADDRESSES: Patricia Capone, PMAE, Harvard University, 11 Divinity Avenue, Cambridge, MA 02138, telephone (617) 496-3702, email pcapone@fas.harvard.edu.

SUPPLEMENTARY INFORMATION: This notice is published as part of the National Park Service's administrative responsibilities under NAGPRA. The determinations in this notice are the sole responsibility of PMAE. The National Park Service is not responsible for the determinations in this notice. Additional information on the amendments and determinations in this notice, including the results of consultation, can be found in the inventory or related records held by PMAE.

Amendment

This notice amends the determinations published in a Notice of Inventory Completion and Notice of Inventory Completion Amendment in the Federal Register (83 FR 65733-65734, December 21, 2018 and 87 FR 56697-56698, September 15, 2022). Disposition of the items in the original and Amended Notice of Inventory Completion notices has not occurred. This notice amends the count of the number of associated funerary objects.

Associated Funerary Objects
Site | Original No. | Amended No. | Amended description
Cave near Jasper in Marion County, TN | 33 | 27 | 26 faunal bone fragments and one ground stone.
Holloway Mounds in Marion County, TN | 59 | 57 | one biface, 14 projectile points, one broken projectile point, one quartz discoidal, 39 shell beads, and one box of shell beads.

Determinations (As Amended)

Pursuant to NAGPRA and its implementing regulations, and after consultation with the appropriate Indian Tribes, PMAE has determined that:

• The human remains represent the physical remains of 23 individuals of Native American ancestry.

• The 84 objects are reasonably believed to have been placed with or near individual human remains at the time of death or later as part of the death rite or ceremony.

• No relationship of shared group identity can be reasonably traced between the human remains and associated funerary objects and any Indian Tribe.

• The human remains and associated funerary objects were removed from the aboriginal land of the Cherokee Nation; Eastern Band of Cherokee Indians; and the United Keetoowah Band of Cherokee Indians in Oklahoma.

Requests for Disposition

Written requests for disposition of the human remains and associated funerary objects in this notice must be sent to the Responsible Official identified in ADDRESSES. Requests for disposition may be submitted by:

1. Any one or more of the Indian Tribes identified in this notice.

2. Any lineal descendant, Indian Tribe, or Native Hawaiian organization not identified in this notice who shows, by a preponderance of the evidence, that the requestor is a lineal descendant or a culturally affiliated Indian Tribe or Native Hawaiian organization, or who shows that the requestor is an aboriginal land Indian Tribe.

Disposition of the human remains and associated funerary objects in this notice to a requestor may occur on or after May 26, 2023. If competing requests for disposition are received, PMAE must determine the most appropriate requestor prior to disposition. Requests for joint disposition of the human remains and associated funerary objects are considered a single request and not competing requests. PMAE is responsible for sending a copy of this notice to the Indian Tribes identified in this notice.

Authority: Native American Graves Protection and Repatriation Act, 25 U.S.C. 3003, and the implementing regulations, 43 CFR 10.9, 10.11, and 10.13.

Dated: April 19, 2023.
Melanie O'Brien,
Manager, National NAGPRA Program.

[FR Doc. 2023-08812 Filed 4-25-23; 8:45 am]

BILLING CODE 4312-52-P